DEPARTMENT OF HEALTH AND HUMAN SERVICES

Centers for Disease Control and Prevention

[Program Announcement 02152]

Dissertation Awards for Minority Doctoral Candidates for Violence-Related Injury Prevention Research; Notice of Availability of Funds; Amendment

A notice announcing the availability of Fiscal Year 2002 funds to fund grants for Injury Prevention and Control Dissertation Awards for Minority Doctoral Candidates for Violence-Related Injury Prevention Research was published in the Federal Register on May 9, 2002, Vol. 67, No. 90, pages 31344-31348. The notice is amended as follows: On page 31346, second column, Section F. Submission and Deadline, Paragraph 3, line 2, should be changed to read “* * * June 24, 2002, submit the application * * *”

Dated: June 5, 2002.
Edward Schultz,
Acting Director, Procurement and Grants Office, Centers for Disease Control and Prevention.

[FR Doc. 02-14580 Filed 6-10-02; 8:45 am]

BILLING CODE 4163-18-P